DEPARTMENT OF THE INTERIOR

Fish and Wildlife Service

[FWS-R8-ES-2010-N231; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before November 26, 2010.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-20186A

Applicant: Garret R. Huffman, Phoenix, Arizona.

The applicant requests a permit to take (survey by pursuit) the Quino checkerspot butterfly (Euphydryas editha quino) in conjunction with surveys throughout the range of the species in California for the purpose of enhancing its survival.

Permit No. TE-006112

Applicant: Gretchen E. Flohr, Los Altos Hills, California.

The applicant requests an amendment to an existing permit (February 1, 1999, 64 FR 4888) to take (biological samples) the California tiger salamander (Ambystoma californiense) in conjunction with disease research throughout the range of the species in California for the purpose of enhancing its survival.

Permit No. TE-797315

Applicant: Dr. Michael L. Morrison, College Station, Texas.

The applicant requests an amendment to an existing permit (January 13, 2000, 65 FR 2188) to take (survey, trap, capture, handle, mark, and release) the salt marsh harvest mouse (Reithrodontomys raviventris) in conjunction with presence/absence surveys, population/habitat studies, relocation, and research throughout the range of the species in California for the purpose of enhancing its survival.

Permit No. TE-24281A

Applicant: Todd A. Hoggan, Idyllwild, California.

The applicant requests a permit to take (harass by survey and monitor nests) the southwestern willow flycatcher (Empidonax traillii extimus), least Bell's vireo (Vireo bellii pusillus), and Yuma clapper rail (Rallus longirostris yumanensis) in conjunction with surveys and population monitoring activities throughout the range of the species in California and Nevada for the purpose of enhancing their survival.

Permit No. TE-24603A

Applicant: Karen J. Carter, Running Springs, California.

The applicant requests a permit to take (capture, handle, and release) the San Bernardino kangaroo rat (Dipodomys merriami parvus) and take (harass by survey) the Yuma clapper rail (Rallus longirostris yumanensis) and southwestern willow flycatcher (Empidonax traillii extimus) in conjunction with surveys and population monitoring activities throughout the range of the species in California and Nevada for the purpose of enhancing their survival.

Permit No. TE-24582A

Applicant: Russell C. Croel, Folsom, California.

The applicant requests a permit to take (capture, collect, and kill) the vernal pool tadpole shrimp (Lepidurus packardi), the conservancy fairy shrimp (Branchinecta conservatio), and the longhorn fairy shrimp (Branchinecta longiantenna) in conjunction with surveys and research activities in Alameda, Butte, Colusa, Contra Costa, Fresno, Glenn, Kings, Merced, Placer, Sacramento, San Joaquin, Shasta, Solano, Stanislaus, Sutter, Tehama, Tulare, Yolo, and Yuba Counties, in California for the purpose of enhancing their survival.

Permit No. TE-007907

Applicant: United States Geological Survey, Klamath Falls, Oregon.

The applicant requests an amendment to an existing permit (May 3, 2010, 84 FR 23287) to take (capture, mark, collect, transport, and release) the Lost River sucker (Deltistes luxatus) and the shortnose sucker (Chasmistes brevirostrum) in conjunction with surveys, research, population monitoring and life history studies throughout the range of each species in California and Oregon, for the purpose of enhancing their survival.

Permit No. TE-025732

Applicant: Samuel S. Sweet, Santa Barbara, California.

The applicant requests an amendment to an existing permit (October 4, 2001, 66 FR 50671) to take (capture, handle, measure, translocate, temporarily confine and release) the arroyo toad (Bufo californicus) in conjunction with surveys, research, population monitoring and life history studies in Los Angeles, Santa Barbara, San Luis Obispo and Ventura, in California and Oregon, for the purpose of enhancing its survival.

Permit No. TE-122026

Applicant: Tracy Y. Bailey, Santa Barbara, California.

The applicant requests an amendment to an existing permit (July 24, 2006, 71 FR 41832) to take (capture, handle, release) the Stephens'= kangaroo rat (Dipodomys stephensi), the San Bernardino kangaroo rat (Dipodomys merriami parvus), and the Morro Bay kangaroo rat (Dipodomys heermanni morroensis) in conjunction with surveys, population monitoring, and life history studies throughout the range of each species in California, for the purpose of enhancing their survival.

Permit No. TE-24653A

Applicant: University of California, Berkeley, California.

The applicant requests a permit to take (capture, collect, and kill) the vernal pool tadpole shrimp (Lepidurus packardi) and the conservancy fairy shrimp (Branchinecta conservatio) in conjunction with soil extraction and soil analysis research in Merced County, California for the purpose of enhancing their survival.

We invite public review and comment on each of these recovery permit applications. Comments and materials we receive will be available for public inspection, by appointment, during normal business hours at the address listed in the ADDRESSES section of this notice.

Michael M. Long,
Acting Regional Director, Region 8, Sacramento, California.

[FR Doc. 2010-27215 Filed 10-26-10; 8:45 am]

BILLING CODE 4310-55-P